DEPARTMENT OF STATE

[Public Notice 7785]

Department of State FY11 Service Contract Inventory

AGENCY: Department of State.

ACTION: Notice of the release of the Department of State FY11 Service Contract Inventory.

SUMMARY: The Department of State has publically released its Service Contract Inventory for FY11 and its analysis of the FY10 inventory. They are available here: http://csm.state.gov/. Section 743 of Division C of the FY 2010 Consolidated Appropriations Act, Public Law 111-117, requires Department of State, and other civilian agencies, to submit an annual inventory of service contracts. A service contract inventory is a tool to assess an agency in its ability to contract services in support of its mission and operation and whether the contractors' skills are being utilized in an appropriate manner.

DATES: The FY11 inventory and FY10 analysis is available on the Department's Web site as of Jan. 31, 2012.

FOR FURTHER INFORMATION CONTACT: Jason Passaro, Director, A/CSM, (703) 875-5114, passaroja@state.gov.

Dated: January 31, 2012.
Jason Passaro,
Director, A/CSM, Department of State.

[FR Doc. 2012-2467 Filed 2-2-12; 8:45 am]

BILLING CODE 4710-24-P